DEPARTMENT OF TRANSPORTATION

Federal Aviation Administration

14 CFR Part 39

[Docket No. FAA-2019-0240; Product Identifier 2018-CE-057-AD; Amendment 39-21131; AD 2020-11-06]

RIN 2120-AA64

Airworthiness Directives; Pilatus Aircraft Ltd. Airplanes

AGENCY: Federal Aviation Administration (FAA), Department of Transportation (DOT).

ACTION: Final rule.

SUMMARY: The FAA is adopting a new airworthiness directive (AD) for Pilatus Aircraft Ltd. Model PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes. This AD results from mandatory continuing airworthiness information (MCAI) issued by an aviation authority of another country to identify and correct an unsafe condition on an aviation product. The MCAI describes the unsafe condition as flap actuator taper pins that were not swaged during the manufacturing process. The FAA is issuing this AD to require actions to address the unsafe condition on these products.

DATES: This AD is effective June 30, 2020.

The Director of the Federal Register approved the incorporation by reference of a certain publication listed in this AD as of June 30, 2020.

ADDRESSES: For service information identified in this final rule, contact PILATUS Aircraft Ltd., Customer Technical Support (MCC), P.O. Box 992, CH-6371 Stans, Switzerland; phone: +41 (0)41 619 67 74; fax: +41 (0)41 619 67 73; email: techsupport@pilatus-aircraft.com; internet: https://www.pilatus-aircraft.com. You may view this service information at the FAA, Airworthiness Products Section, Operational Safety Branch, 901 Locust, Kansas City, Missouri 64106. For information on the availability of this material at the FAA, call (816) 329-4148. It is also available on the internet at https://www.regulations.gov by searching for and locating Docket No. FAA-2019-0240.

Examining the AD Docket

You may examine the AD docket on the internet at https://www.regulations.gov by searching for and locating Docket No. FAA-2019-0240; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

The FAA issued a notice of proposed rulemaking (NPRM) to amend 14 CFR part 39 by adding an AD that would apply to Pilatus Aircraft Ltd. Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes. The NPRM was published in the Federal Register on April 5, 2019 (84 FR 13571). The NPRM proposed to correct an unsafe condition for the specified products and was based on MCAI AD No. 2018-0235, dated November 5, 2018, issued by the European Aviation Safety Agency (EASA), which is the Technical Agent for the Member States of the European Community. The MCAI states:

During a recent overhaul, two new flap actuators were found to have taper pins installed that, apparently, had not been swaged. Investigation results identified that the taper pins had been incorrectly swaged during the manufacturing process.

This condition, if not detected and corrected, could lead to loss of one or both taper pins, consequent asymmetric flap deployment or flap surface flutter, possibly resulting in loss of control of the aeroplane.

To address this potential unsafe condition, Pilatus issued the [service bulletin] SB to provide inspection instructions.

For the reason described above, this [EASA] AD requires a one-time inspection of the taper pins of the affected parts for correct installation and, depending on findings, accomplishment of applicable corrective action(s). This [EASA] AD also requires inspection of, and, depending on findings, corrective action(s) on, affected parts held as spare, prior to installation.

The MCAI can be found in the AD docket on the internet at: https://www.regulations.gov/docket?D=FAA-2019-0240.

Comments

The FAA gave the public the opportunity to participate in developing this AD. The FAA received one comment from Richart Ruddie, who supported the NPRM.

Conclusion

The FAA reviewed the relevant data, considered the comment received, and determined that air safety and the public interest require adopting the AD as proposed.

Related Service Information Under 1 CFR Part 51

The FAA reviewed Pilatus Aircraft Ltd. PC-6 Service Bulletin No. 27-005, dated July 2, 2018. The service information contains procedures for removing and inspecting the flap actuator assemblies and pushrod assemblies, modifying or replacing the taper pins if necessary, and reinstalling the assemblies. This service information is reasonably available because the interested parties have access to it through their normal course of business or by the means identified in the ADDRESSES section.

Costs of Compliance

The FAA estimates that this AD will affect 30 products of U.S. registry. The FAA also estimates that it would take about 12 work-hours per product to comply with the basic inspection requirements of this AD. The average labor rate is $85 per work-hour.

Based on these figures, the FAA estimates the cost of this AD on U.S. operators to be $30,600, or $1,020 per product.

In addition, the FAA estimates that any necessary follow-on modification or replacement actions would require parts costing $30,000, for a cost of $1,000 per product. The FAA has no way of determining the number of products that may need these actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-11-06 Pilatus Aircraft Ltd.: Amendment 39-21131; Docket No. FAA-2019-0240; Product Identifier 2018-CE-057-AD.

(a) Effective Date

This airworthiness directive (AD) becomes effective June 30, 2020.

(b) Affected ADs

None.

(c) Applicability

This AD applies to Pilatus Aircraft Ltd. Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes, all serial numbers, certificated in any category, with a left-hand or right-hand flap actuator assembly part number (P/N) 6132.0039.51 or P/N 6132.0039.52 or pushrod assembly P/N 6132.0040.00 installed, except those assemblies supplied by Pilatus Aircraft Ltd. with a European Aviation Safety Agency (EASA) form 1 tag dated July 2, 2018 or later.

Note 1 to paragraph (c) of this AD: These airplanes may also be identified as Fairchild Republic Company airplanes, Fairchild Industries airplanes, Fairchild Heli Porter airplanes, or Fairchild-Hiller Corporation airplanes.

(d) Subject

Air Transport Association of America (ATA) Code 27: Flight Controls.

(e) Reason

This AD was prompted by mandatory continuing airworthiness information (MCAI) originated by an aviation authority of another country to identify and correct an unsafe condition on an aviation product. The MCAI describes the unsafe condition as flap actuator taper pins that were not swaged during the manufacturing process. The FAA is issuing this AD to prevent loss of one or both taper pins that could lead to asymmetric flap deployment or flap surface flutter and result in loss of control of the airplane.

(f) Actions and Compliance

Unless already done, do the following actions in paragraphs (f)(1) and (2) of this AD:

(1) Within the next 100 hours time-in-service after June 30, 2020 (the effective date of this AD) or within the next 12 months after June 30, 2020 (the effective date of this AD), whichever occurs first, prepare the airplane and inspect each flap actuator taper pin for correct installation by following the Accomplishment Instructions-Part 1-On Aircraft, paragraphs 3.A through 3.B(2), of Pilatus Aircraft Ltd. PC-6 Service Bulletin No. 27-005, dated July 2, 2018 (Pilatus SB No. 27-005).

(i) If a taper pin has any damage, before further flight, replace and swage the taper pin and reinstall the pushrod assembly by following the Accomplishment Instructions-Part 1-On Aircraft, paragraphs 3.C and 3.D of Pilatus SB No. 27-005.

(ii) If a taper pin is incorrectly swaged or is not swaged, before further flight, swage the taper pin and reinstall the pushrod assembly by following the Accomplishment Instructions-Part 1-On Aircraft, paragraphs 3.C and 3.D of Pilatus SB No. 27-005.

(2) After June 30, 2020 (the effective date of this AD), do not install a flap actuator assembly, P/N 6132.0039.51 or P/N 6132.0039.52, or pushrod assembly P/N 6132.0040.00 on any airplane unless the part was supplied by Pilatus Aircraft Ltd. with an EASA form 1 tag dated July 2, 2018 or later, or the part has been inspected in accordance with paragraphs (f)(1)(i) and (ii) of this AD.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA, or EASA.

(h) Related Information

Refer to MCAI EASA AD No. 2018-0235, dated November 5, 2018, for related information. The MCAI can be found in the AD docket on the internet at: https://www.regulations.gov/docket?D=FAA-2019-0240.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pilatus Aircraft Ltd. PC-6 Service Bulletin No. 27-005, dated July 2, 2018.

(ii) [Reserved]

(3) For service information identified in this AD, contact PILATUS Aircraft Ltd., Customer Technical Support (MCC), P.O. Box 992, CH-6371 Stans, Switzerland; phone: +41 (0)41 619 67 74; fax: +41 (0)41 619 67 73; email: techsupport@pilatus-aircraft.com; internet: https://www.pilatus-aircraft.com.

(4) You may view this service information at the FAA, Airworthiness Products Section, Operational Safety Branch, 901 Locust, Kansas City, Missouri 64106. For information on the availability of this material at the FAA, call (816) 329-4148. In addition, you can access this service information on the internet at https://www.regulations.gov by searching for and locating Docket No. FAA-2019-0240.

(5) You may view this service information that is incorporated by reference at the National Archives and Records Administration (NARA). For information on the availability of this material at NARA, email fedreg.legal@nara.gov, or go to: https://www.archives.gov/federal-register/cfr/ibr-locations.html.

Issued on May 15, 2020.
Lance T. Gant,
Director, Compliance & Airworthiness Division, Aircraft Certification Service.

[FR Doc. 2020-11204 Filed 5-22-20; 8:45 am]

BILLING CODE 4910-13-P